DEPARTMENT OF COMMERCE

National Oceanic and Atmospheric Administration

RIN 0648-XF09

Endangered and Threatened Species: Program Review for Section 7 Counterpart Regulations National Fire Plan Activities

AGENCY: National Marine Fisheries Service (NMFS), National Oceanic and Atmospheric Administration, Commerce.

ACTION: Notice; availability of report.

SUMMARY: The National Marine Fisheries Service (NMFS) announces the availability of a joint report on the Forest Service and Bureau of Land Management's use of the counterpart regulations for projects that support the National Fire Plan.

ADDRESSES: The report and related documents are available for review upon written request or on-line from the NMFS website: http://www.nmfs.noaa.gov/pr/. You may also send an e-mail request to NMFS.nationalfireplan@noaa.gov, or a written request to: Endangered Species Division, Office of Protected Resources, NMFS, 1315 East-West Highway, Room 13660, Silver Spring, MD 20910; phone (301)713-1401; fax (301)427-2523. Specify whether you wish to receive a hard copy by U.S. mail or an electronic copy by e-mail.

FOR FURTHER INFORMATION CONTACT: Ann Garrett, Endangered Species Division at (301)713-1401.

SUPPLEMENTARY INFORMATION: In accordance with the Alternative Consultation Agreements NMFS and the Fish and Wildlife Service (FWS) have with the Bureau of Land Management (BLM) and the Forest Service (FS), conducted a review of the determinations that BLM and FS made under the joint counterpart regulations for Endangered Species Act (ESA) section 7 consultation. The counterpart regulations, codified in 50 CFR part 402 subpart C, provide an optional alternative to the standard section 7 consultation process described in subparts A and B, and were developed specifically for agency projects that authorize, fund, or carry out actions that support the National Fire Plan. The National Fire Plan, part of the President's 2002 Healthy Forests Initiative, is an interagency strategy for reducing the risk of catastrophic wildland fires and resorting fire-adapted ecosystems. The intent of the counterpart regulations is to eliminate the need to conduct informal consultation and obtain written concurrence from the FWS and NMFS for those National Fire Plan actions that the FS or BLM determines are “not likely to adversely affect (NLAA)” any listed species or designated critical habitat.

According to the counterpart regulations for National Fire Plan activities, the FS or BLM may make NLAA determinations for fire plan projects after entering into an Alternative Consultation Agreement with FWS and NMFS, and upon implementing the provisions of the ACA. Each ACA outlines the procedures and roles of the agencies and specific requirements for reporting, training and execution of self-certification, and conducting periodic program monitoring of the use of the counterpart regulations. With the publication of this Notice of Availability, NMFS and FWS are announcing the completion of the first review of the FS's and BLM's use of the counterpart regulations and the availability of the report describing the results of the program review and recommendations for improving their decisions made pursuant to this authority. The results of the first review are available on-line from the NMFS website: http://www.nmfs.noaa.gov/pr/.

Authority: 16 U.S.C. 1531 et seq.

Dated: February 1, 2008.
Angela Somma,
Chief, Endangered Species Division, Office of Protected Resources, National Marine Fisheries Service.

[FR Doc. E8-2278 Filed 2-6-08; 8:45 am]

BILLING CODE 3510-22-S